DEPARTMENT OF THE INTERIOR

Bureau of Land Management

[BLM_AZ_FRN_MO4500181097]

30-Day Extension of the Call for Nominations for the Bears Ears National Monument Advisory Committee, the Grand Staircase-Escalante National Monument Advisory Committee, the San Rafael Swell Recreation Area Advisory Council, and the Utah Resource Advisory Council Committee

AGENCY: Bureau of Land Management, Interior.

ACTION: Notice of extension.

SUMMARY: The Bureau of Land Management (BLM) is seeking nominations for membership on the Bears Ears National Monument Advisory Committee (MAC), the Grand Staircase-Escalante National MAC, the San Rafael Swell Recreation Area Advisory Council, and the Utah Resource Advisory Council (RAC) to fill existing vacancies and for member terms that are scheduled to expire. This is a 30-day extension of the call for nominations published in the Federal Register on September 18, 2024.

DATES: The deadline for submission of nominations, as announced in a Federal Register notice that published on September 18, 2024, at 89 FR 76501, is extended. Nominations for membership on the advisory councils must be received no later than November 20, 2024.

ADDRESSES: Nominations should be sent to the appropriate BLM offices listed in the SUPPLEMENTARY INFORMATION section of this Notice.

FOR FURTHER INFORMATION CONTACT: Please contact the individuals listed in the SUPPLEMENTARY INFORMATION section of this notice. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act, as amended (FLPMA), directs the Secretary of the Interior to involve the public in planning and issues related to management of lands administered by the BLM through the establishment of 10- to 15-member citizen-based advisory councils that are managed in accordance with the Federal Advisory Committee Act (FACA).

All BLM advisory councils are regulated by FACA, section 309 of FLPMA, and the regulations contained in 43 CFR subpart 1784. Members are appointed to serve three-year terms and their duties and responsibilities are solely advisory in nature. As required by applicable regulations, membership must be balanced and representative of the various interests concerned with the management of the public lands.

Individuals may nominate themselves or others. Nominees must be residents of the State of Utah. The BLM will evaluate nominees based on their education, training, experience, and knowledge of the geographic area of the councils. Nominees should demonstrate a commitment to collaborative resource decision-making. Simultaneous with this notice, the Utah State Office will issue online announcements regarding specific vacancies and providing additional information for submitting nominations at https://www.blm.gov/get-involved/resource-advisory-council/near-you/Utah.

Bears Ears National MAC

Nominations for the Bears Ears National MAC should be sent to Anna Rehkopf, BLM Canyon Country District Office, 82 Dogwood Avenue, Moab, UT 84532; phone: (435) 259-2100; Attention: Bears Ears National MAC Nominations, or email: arehkopf@blm.gov with the subject line “Bears Ears National MAC Nominations.”

The Bears Ears National MAC is composed of 15 members including an elected official from local government within San Juan County representing the county; and representatives of State government; the paleontological community; the archaeological community; the conservation community; livestock grazing permittees; Tribal interests; developed outdoor recreation, off-highway vehicle users, or commercial recreation activities; dispersed recreational activities; private landowners; local business owners; and the public-at-large. Further information on the MAC can be found at https://www.blm.gov/get-involved/rac-near-you/utah/benm-mac.

Grand Staircase-Escalante National MAC

Nominations for the Grand Staircase-Escalante National MAC should be sent to David Hercher, BLM Paria River District Office, 669 South Highway 89A, Kanab, UT 84741; phone: (435) 899-0415; Attention: Grand Staircase-Escalante National MAC Nominations, or email: dhercher@blm.gov with the subject line “Grand Staircase-Escalante National MAC Nominations.”

The MAC is composed of 15 members including elected officials from Garfield County and Kane County; and representatives of State government; Tribal government with ancestral interest in the Monument; the educational community; the conservation community; developed outdoor recreation, off-highway vehicle users, or commercial recreation activities in the Monument; livestock grazing permittees operating in the Monument; local business owners, private landowners, or the public-at-large; the paleontological community; the archaeological community; the geological community; the biological (entomology, botany, or wildlife) community; the social science community; and the systems ecology community. Further information on the MAC can be found at https://www.blm.gov/get-involved/resource-advisory-council/near-me/utah/gsenm-mac.

San Rafael Swell Recreation Area Advisory Council

Nominations for the San Rafael Swell Recreation Area Advisory Council should be sent to Cindy Gallo, BLM Utah State Office, 440 West 200 South, Suite 500, Salt Lake City, UT 84101; phone: (435) 899-0415; Attention: San Rafael Swell Recreation Area Advisory Council Nominations, or email: cgallo@blm.gov with the subject line “San Rafael Swell Recreation Area Advisory Council Nominations.”

The San Rafael Swell Recreation Area Advisory Council is composed of seven members including representatives of the Emery County Commission; motorized recreational users; non-motorized recreational users; grazing allotment permittees within the Recreation Area; conservation organizations; someone with expertise in the historical uses of the Recreation Area; and an elected leader of a federally recognized Tribe that has significant cultural or historic connections to, and expertise in, the landscape, archeological sites, or cultural sites within the County. Further information on the San Rafael Swell Recreation Area Advisory Council can be found at https://www.blm.gov/get-involved/resource-advisory-council/near-you/utah/San-Rafael-Swell-RAC.

Utah RAC

Nominations for the Utah RAC should be sent to Christina Judd, BLM Utah State Office, 440 West 200 South, Suite 500, Salt Lake City, UT 84101, Attention: Utah RAC Nominations, or email: cjudd@blm.gov with the subject line “Utah RAC Nominations.”

The Utah RAC is composed of 15 members in the following three membership categories:

(1) Category One—Holders of Federal grazing permits or leases within the area for which the RAC is organized; represent interests associated with transportation or rights-of-way; represent developed outdoor recreation, off-highway vehicle users, or commercial recreation activities; represent the commercial timber industry; or represent energy and mineral development.

(2) Category Two—Representatives of nationally or regionally recognized environmental organizations; dispersed recreational activities; archaeological and historical interests; or nationally or regionally recognized wild horse and burro interest groups.

(3) Category Three—Hold State, county, or local elected office; are employed by a State agency responsible for the management of natural resources, land, or water; represent Indian Tribes within or adjacent to the area for which the RAC is organized; are employed as academicians in natural resource management or the natural sciences; or represent the affected public at large.

Further information on the MACs, the RAC, and the Council can be found at https://www.blm.gov/get-involved/resource-advisory-council/near-you/utah/RAC.

Nominating Procedures: Nominations for potential members to the Bears Ears National MAC, the Grand Staircase-Escalante National MAC, and the San Rafael Swell Recreation Area Advisory Council should include a resume providing an adequate description of the nominee's qualifications, including information that would enable the Department of the Interior to make an informed decision regarding the membership requirements and permit the Department of the Interior to contact a potential member. Nominees are strongly encouraged to include supporting letters from employers, associations, professional organizations, and/or other organizations that indicate support by a meaningful constituency for the nominee. Please indicate any BLM permits, leases, or licenses that you hold personally or are held by your employer. Nominations for potential members for the Utah RAC must include a completed application (OMB Control No. 1004-0204) available at https://www.blm.gov/sites/default/files/docs/2022-05/BLM-Form-1120-19_RAC-Application.pdf; letters of reference from the represented interests or organizations; and any other information that speaks to the candidate's qualifications.

The original call for nominations was published in the Federal Register (89 FR 76501) on September 18, 2024, with a 45-day nomination period ending October 18, 2024. This notice provides additional time for nominations (see DATES, above).

(Authority: 43 CFR 1784.4-1)

Joseph Mendez,
Acting BLM Utah State Director.

[FR Doc. 2024-24197 Filed 10-18-24; 8:45 am]

BILLING CODE 4331-25-P